DEPARTMENT OF THE INTERIOR

Bureau of Land Management

[WO-260-09-1060-00-24 1A]

Wild Horse and Burro Advisory Board; Meeting

AGENCY: Bureau of Land Management, Interior.

ACTION: Announcement of meeting.

SUMMARY: The Bureau of Land Management (BLM) announces that the Wild Horse and Burro Advisory Board will conduct a meeting on matters pertaining to management and protection of wild, free-roaming horses and burros on the Nation's public lands.

DATES: The advisory board will meet Tuesday, March 19, 2002, from 8:30 a.m. to 5:00 p.m. local time, and on Wednesday, March 20, 2002, from 8:30 a.m. to 5:00 p.m. local time.

Submit written comments pertaining to the Advisory Board meeting no later than close of business March 8, 2002.

ADDRESSES: The Advisory Board will meet at the Silver Legacy Hotel and Casino, 407 North Virginia Street, Reno, Nevada 89520.

Written comments pertaining to the Advisory Board meeting should be sent to: Bureau of Land Management, National Wild Horse and Burro Program, WO260, Attention: Ramona Delorme, 1340 Financial Boulevard, Reno, Nevada, 89502-7147. See SUPPLEMENTARY INFORMATION section for electronic access and filing address.

FOR FURTHER INFORMATION CONTACT: Janet Nordin, Wild Horse and Burro Public Outreach Specialist, (775) 861-6583. Individuals who use a telecommunications device for the deaf (TDD) may reach Ms. Nordin at any time by calling the Federal Information Relay Service at 1-800-877-8339.

SUPPLEMENTARY INFORMATION:

I. Public Meeting

Under the authority of 43 CFR part 1784, the Wild Horse and Burro Advisory Board advises the Secretary of the Interior, the Director of the BLM, the Secretary of Agriculture, and the Chief, Forest Service, on matters pertaining to management and protection of wild, free-roaming horses and burros on the Nation's public lands. The tentative agenda for the meeting is:

Tuesday, March 19, 2002 (8:30-5:00)

Welcome—Elena Daly

Director, Bureau of Land Management Introduction of New Board Members & Staff—Elena Daly

Group Manager Comments—John Fend

—Washington Staff Organization

—Charter & Nominations Update

Old Business (9:00-11:30)

BLM Action on May 2001 Recommendations—John Fend

Approval of May 2001 Board Minutes—Robin Lohnes

Trinidad Letter—Outcome—Sharon Kipping

WH&B Crisis Mgt. Strategy—Tom Pogacnik

WH&B National Reward Program—Tom Pogacnik

Wyoming Wild Horse Pilot Project—Don Glenn

Slaughter/Compliance/FOIA Issue —John Fend

Working Lunch (11:30 to 1:00)

WH&B Research Update—Linda Coates-Markle

—Fertility control

—URID/Strangles

—Genetics

—Census Modeling

—Habitat Assessments

Public Comment (4:00 PM)—Robin Lohnes

Adjourn

Wednesday, March 20, 2002 (8:30-5:00)

Strategic Plan: Progress Report—John Fend

—Budget Initiative Progress—John Fend

—Gather and Selective Removal IM—Tom Pogacnik

—Adoption Process Standardization—Janet Nordin

—Drought Projections—Tom Pogacnik

Working Lunch (11:30-1:00)

New Business

WH&B Foundation Update—Janet Nordin

BLM National Foundation—Elena Daly

WH&B Marketing Strategy/Report—Janet Greenlee

Corporate Identity

—National Themes/Slogans

—Olympics Venues—Successes

—Adoption Incentives

—Super Adoption Proposal

Close Out/Recommendations—Robin Lohnes

Adjourn

The meeting site is accessible to individuals with disabilities. An individual with a disability needing an auxiliary aid or service to participate in the meeting, such as interpreting service, assistive listening device, or materials in an alternate format, must notify the person listed under FOR FURTHER INFORMATION CONTACT two weeks before the scheduled meeting date. Although the BLM will attempt to meet a request received after that date, the requested auxiliary aid or service may not be available because of insufficient time to arrange it.

The Federal advisory committee management regulations (41 CFR 102-3.150) require BLM to publish in the Federal Register notice of a meeting 15 days prior to the meeting date.

II. Public Comment Procedures

Members of the public may make oral statements to the Advisory Board on March 19, 2002, at the appropriate point in the agenda. This opportunity is anticipated to occur at 4:00 p.m. local time. Persons wishing to make statements should register with the BLM by noon on March 19, 2002, at the meeting location. Depending on the number of speakers, the Advisory Board may limit the length of presentations. At previous meetings, presentations have been limited to three minutes in length. Speakers should address the specific wild horse and burro-related topics listed on the agenda. Speakers must submit a written copy of their statement to the address listed in the ADDRESSES section or bring a written copy to the meeting.

Participation in the Advisory Board meeting is not a prerequisite for submission of written comments. The BLM invites written comments from all interested parties. Your written comments should be specific and explain the reason for any recommendation. The BLM appreciates any and all comments, but those most useful and likely to influence decisions on management and protection of wild horses and burros are those that are either supported by quantitative information or studies or those that include citations to and analysis of applicable laws and regulations. Except for comments provided in electronic format, speakers should submit two copies of their written comments where feasible. The BLM will not necessarily consider comments received after the time indicated under the DATES section or at locations other than that listed in the ADDRESSES section.

In the event there is a request under the Freedom of Information Act (FOIA) for a copy of your comments, the BLM will make them available in their entirety, including your name and address. However, if you do not want the BLM to release your name and address in response to a FOIA request, you must state this prominently at the beginning of your comment. BLM will honor your request to the extent allowed by law. BLM will release all submissions from organizations or businesses, and from individuals identifying themselves as representatives or officials of organizations or businesses, in their entirety, including names and addresses.

Electronic Access and Filing Address

Speakers may transmit comments electronically via the Internet to: Janet_Nordin@blm.gov. Please include the identifier “WH&B” in the subject of your message and your name and address in the body of your message.

Dated: February 25, 2002.
Henri R. Bisson,
Assistant Director, Renewable Resources and Planning.

[FR Doc. 02-5029 Filed 3-1-02; 8:45 am]

BILLING CODE 4310-84-P